DEPARTMENT OF DEFENSE

Department of the Army

Western Hemisphere Institute for Security Cooperation Board of Visitors; Meeting

AGENCY: Department of the Army, DoD.

ACTION: Notice of open meeting.

SUMMARY: This notice sets forth the schedule and summary agenda for the meeting of the Board of Visitor (BoV) for the Western Hemisphere Institute for Security Cooperation (WHINSEC). Notice of this meeting is required under the Federal Advisory Committee Act (Pub. L. 92-463). This board was chartered on February 1, 2002, in compliance with the requirements set forth in 10 U.S.C. 2166.

Date: June 3-4, 2003.

Time: 3:30 p.m. to 5:30 p.m. (June 3, 2003). 8 a.m. to 2:30 p.m. (June 4, 2003).

Location: Pratt Hall, Building 35, 7011 Morrison Ave., Fort Benning, GA 31905.

Proposed Agenda: the WHINSEC BoV will elect BoV leadership for calendar year 2003, establish its 2003 schedule; validate and or establish sub-committees; receive status briefings of actions taken on last year's BoV recommendations and on new activities and efforts since December 2002. The Board will look into the areas deferred from the 2002 sessions: WHINSEC fiscal affairs and physical equipment. The Board will also look into any matters it deems important and will meet with groups of WHINSEC students.

FOR FURTHER INFORMATION CONTACT: Ken LaPlante, BCPI, Limited, Army G-3 (Room 2D337), 400 Army Pentagon, Washington, DC 20310, telephone (703) 692-7419 or Dr. Mary Grizzard at (703) 614-8414.

SUPPLEMENTARY INFORMATION: The meeting is open to the public. There will be time set aside for public comments by individuals and organization on June 4, 2003. Public comment and presentations will be limited to two minutes each and members of the public desiring to make oral statements or presentations must inform the contact personnel, in writing. Requests must be received before Wednesday, May 28, 2003. Mail written presentations and requests to register to attend the public sessions to: Dr. Mary Grizzard or Mr. LaPlante. Public seating is limited, and is available on a first come, first served basis.

Dated: May 5, 2003.
John C. Speedy III,
SES, Designated Federal Officer, WHINSEC BoV.

[FR Doc. 03-12154 Filed 5-14-03; 8:45 am]

BILLING CODE 3710-08-M